DEPARTMENT OF VETERANS AFFAIRS

Notice of Availability of an Environmental Impact Statement (EIS) for the San Francisco Veterans Affairs Medical Center (SFVAMC) Long Range Development Plan (LRDP)

AGENCY: Department of Veterans Affairs (VA).

ACTION: Notice of availability.

SUMMARY: Pursuant to the National Environmental Policy Act (NEPA) of 1969, as amended, (42 U.S.C. 4331 et seq.), the Council on Environmental Quality Regulations for Implementing the Procedural Requirements of NEPA (40 CFR parts 1500-1508), VA's Implementing Regulations (38 CFR part 26), as well as the settlement agreement resulting from Planning Association for Richmond, et al. v. U.S. Department of Veterans Affairs, C-06-02321-SBA (filed 6 June 2008), VA has prepared a Draft EIS for the proposed implementation of the SFVAMC LRDP in San Francisco, California. The SFVAMC LRDP involves development and construction of patient care buildings, research buildings, business occupancy buildings, and parking structures, as well as retrofitting seismically deficient buildings. The Draft EIS identifies and evaluates environmental factors associated with new construction, demolition, as well as seismic retrofit to upgrade the SFVAMC for purposes of meeting the needs of Veterans of the North Coast and San Francisco Bay Area over the next 20 years.

DATES: Interested parties are invited to submit comments in writing on the SFVAMC LRDP Draft EIS by October 16, 2012. Interested parties are also invited to participate in a public meeting regarding the SFVAMC LRDP Draft EIS on September 20, 2012 at SFVAMC (4150 Clement Street, San Francisco, CA 94121, Building 7, 1st Floor, Auditorium) at 5 p.m. At the public meeting, interested parties will also have the opportunity to comment regarding the National Historic Preservation Act Section 106 process.

ADDRESSES: Submit written comments on the SFVAMC LRDP Draft EIS through www.regulations.gov. Please refer to: “SFVAMC LRDP Draft EIS” in any correspondence.

FOR FURTHER INFORMATION CONTACT: Chief Engineer, Engineering Service (138), San Francisco Veterans Affairs Medical Center, 4150 Clement Street, San Francisco, CA 94121 or by telephone, (415) 221-4810, extension 2009. The SFVAMC LRDP and LRDP Draft EIS are available for viewing on the SFVAMC Web site: http://www.sanfrancisco.va.gov/planning.

SUPPLEMENTARY INFORMATION: VA operates the SFVAMC, located at Fort Miley in San Francisco, California. It is the only VAMC in the City and County of San Francisco and is considered an aging facility with need for retrofitting and expansion. The SFVAMC has identified a need for retrofitting existing buildings to the most recent seismic safety requirements and for an additional 589,000 square feet of building space (in addition to the existing nearly one million square feet of building space) to meet the needs of San Francisco Bay Area and northern California coast Veterans over the next 20 years.

Three alternatives were evaluated in the Draft EIS. Alternative 1 would include the addition of 244,000 square feet (or 394,000 square feet including parking structure space) of medical and research space and seismic retrofit of nine existing buildings at the existing SFVAMC site, a 29-acre site located at Fort Miley in the northwestern portion of San Francisco. Alternative 2 would include the addition of 124,000 square feet (or 274,000 square feet including parking structure space) of medical and research space and seismic retrofit of nine existing buildings at the existing SFVAMC site as well as the construction of 350,000 square feet (or 620,000 square feet including parking structure space) of new ambulatory care and research space at a new alternate site in the Mission Bay area of San Francisco. Alternative 3 is the No Action Alternative.

Environmental topics that have been addressed in the Draft EIS include: aesthetics, air quality, community services, cultural resources, coastal management, geology and soils, greenhouse gas emissions, hydrology and water quality, land use, noise, socioeconomics, hazards, transportation and parking, utilities, and biological resources. Relevant and reasonable measures that could alleviate environmental effects have been considered and are included where relevant within the Draft EIS.

Information related to the EIS process, including notices of public meetings, will be available for viewing on the SFVAMC Web site: http://www.sanfrancisco.va.gov/.

Approved: August 9, 2012.
John R. Gingrich,
Chief of Staff, Department of Veterans Affairs.

[FR Doc. 2012-20243 Filed 8-16-12; 8:45 am]

BILLING CODE 8320-01-P